DEPARTMENT OF HEALTH AND HUMAN SERVICES

National Institutes of Health

Center for Scientific Review; Cancellation of Meeting

Notice is hereby given of the cancellation of the Center for Scientific Review Special Emphasis Panel, November 12, 2008, 6 p.m. to November 13, 2008, 6 p.m., St. Gregory Hotel and Suites , 2033 M Street, NW., Washington, DC, 20036 which was published in the Federal Register on October 7, 2008, 73 FR 58606-58608.

The meeting was cancelled due to administrative problems.

Dated: Ocotober 20, 2008.
Jennifer Spaeth,
Director, Office of Federal Advisory Committee Policy.

[FR Doc. E8-25597 Filed 10-27-08; 8:45 am]

BILLING CODE 4140-01-M